ENVIRONMENTAL PROTECTION AGENCY

40 CFR Part 52

[TX-122-1-7613; FRL-7520-8]

Determination of Nonattainment as of November 15, 1996, and November 15, 1999, and Reclassification of the Beaumont/Port Arthur Ozone Nonattainment Area; State of Texas; Extension of Comment Period

AGENCY: Environmental Protection Agency (EPA).

ACTION: Proposed rule; extension of comment period.

SUMMARY: The United States Environmental Protection Agency is extending the comment period for a proposed action published Thursday, June 19, 2003 (68 FR 36756). On June 19, 2003, the EPA: proposed to withdraw our final approval of BPA's 2007 attainment demonstration State Implementation Plan (SIP), the motor vehicle emission budget (MVEB), the mid-course review commitment (MCR), our finding that BPA implemented all RACM; and withdrew the extension of the attainment date to 2007 and our approval of the transport demonstration. Further, we proposed to issue a finding that BPA has failed to attain the 1-hour ozone national ambient air quality standard (NAAQS) by November 15, 1996, the attainment date for moderate nonattainment areas set forth in the Act. If EPA takes final action on this finding of failure to attain, the area would be reclassified as “serious” and if EPA issues a final notice of reclassification of the area to serious, EPA proposed in the alternative two options for identifying the appropriate attainment date for the area. Under Option 1, EPA proposed an additional finding that the area failed to attain the 1-hour ozone standard by November 15, 1999, the attainment date for serious nonattainment areas. If EPA takes final action on this finding, the area would therefore be reclassified as a severe 1-hour ozone nonattainment area, with an attainment date of no later than November 15, 2005. Alternatively, under Option 2, the EPA is proposing to reclassify BPA to a serious 1-hour ozone nonattainment area, and retain that classification with an attainment date of no later than November 15, 2005, thereby giving the State a prospective opportunity as a serious area to attain the standard. Under either alternative, we proposed the schedule for Texas to submit a revised SIP, a new MVEB, and a re-analysis of RACM. We further proposed to adjust the dates by which the area must meet the rate-of-progress (ROP) requirements and adjust contingency measure requirements as they relate to the ROP requirements.

The South East Texas Regional Planning Commission (SETRPC) submitted a letter requesting a 30-day extension to the comment period. SETRPC stated they need that time to solicit and develop meaningful comments due to the magnitude and significant ramifications of the proposed decision. At the request of the SETRPC, the EPA is extending the comment period for 30 days.

DATES: The comment period is extended until August 20, 2003.

ADDRESSES: Comments on this action can be mailed to Mr. Thomas H. Diggs, Chief, Air Planning Section (6PD-L), U.S. Environmental Protection Agency, 1445 Ross Avenue, Dallas, Texas 75202-2733 or e-mailed to diggs.thomas@epa.gov.

FOR FURTHER INFORMATION CONTACT: Steven Pratt, Air Planning Section (6PD-L), 1445 Ross Avenue, Dallas, Texas 75202-2733. Telephone Number (214) 665-2140, e-mail Address: pratt.steven@epa.gov.

List of Subjects in 40 CFR Part 52

Environmental protection, Air pollution control, Hydrocarbons, Intergovernmental relations, Nitrogen oxides, Ozone, Reporting and recordkeeping requirements, Volatile organic compounds.

Authority: 42 U.S.C. 7401 et seq.

Dated: June 23, 2003.
Richard E. Greene,
Regional Administrator, Region 6.

[FR Doc. 03-16582 Filed 6-30-03; 8:45 am]

BILLING CODE 6560-50-P